APPRAISAL SUBCOMMITTEE OF THE FEDERAL FINANCIAL INSTITUTIONS EXAMINATION COUNCIL

[Docket No. AS25-13]

Appraisal Subcommittee; Notice of Meeting

AGENCY: Appraisal Subcommittee of the Federal Financial Institutions Examination Council.

ACTION: Notice of Meeting.

Description: In accordance with section 1104(b) of Title XI of the Financial Institutions Reform, Recovery, and Enforcement Act of 1989, as amended, codified at 12 U.S.C. 3333(b), (Title XI) and its Rules of Operation, notice is hereby given that the Appraisal Subcommittee (ASC) will meet in open session for its regular meeting:

Location: This will be a virtual meeting via Zoom. Please visit the agency's homepage (www.asc.gov) and access the registration link provided in the News and Events section. You MUST register in advance to attend this Meeting.

Date: December 10, 2025.

Time: 10:30 a.m. ET.

Status: Open.

Agenda

The ASC may reorder the agenda to accommodate the needs of members or staff.

Call to Order, Determination of Quorum, Opening Remarks

Approval of the September 16, 2025 Quarterly Meeting Minutes Reports

Acting Chair

Acting Executive Director

Grants Director

Delegated State Compliance Reviews

How To Attend and Observe an ASC Meeting

The meeting will be open to the public via live webcast only. Visit the agency's homepage (www.asc.gov) and access the registration link provided in the News and Events section. The meeting space is intended to accommodate public attendees. However, if the space will not accommodate all requests, the ASC may refuse attendance on that reasonable basis. The use of any video or audio tape recording device, photographing device, or any other electronic or mechanical device designed for similar purposes is prohibited at ASC Meetings.

Natalie Lutz,
Attorney-Advisor.

[FR Doc. 2025-21998 Filed 12-4-25; 8:45 am]

BILLING CODE 6700-91-P